DEPARTMENT OF HEALTH AND HUMAN SERVICES

Centers for Disease Control and Prevention

National Program To Promote Diabetes Education Strategies in Minority Communities: The National Diabetes Education Program

Announcement Type: New.

Funding Opportunity Number: RFA 05014.

Catalog of Federal Domestic Assistance Number: 93.945.

Key Dates

Letter of Intent (LOI) Deadline: October 14, 2004.

Application Deadline: November 18, 2004.

Executive Summary

Diabetes is a serious and costly public health problem in the United States. In November 2003, the number of Americans with diabetes rose to an all time high with an estimated 18.2 million people. Diabetes continues to be the sixth leading cause of death in the United States. An estimated 13 million Americans have been diagnosed with diabetes and about 5.2 million additional Americans have the disease but have not been diagnosed. Diabetes disproportionately affects some ethnic populations such as American Indians/Alaskan Natives, blacks or African Americans, Hispanics or Latinos, Asian Americans, Native Hawaiians and other Pacific Islanders. The Centers for Disease Control and Prevention (CDC) and the National Institutes of Health (NIH) joined forces in 1995 to develop the National Diabetes Education Program (NDEP). The NDEP is a collaborative effort based on a partnership of public and private organizations that are concerned about the health status of their constituents. The NDEP is designed to improve treatment and outcomes for people with diabetes, to promote early diagnosis and to prevent the onset of diabetes. The NDEP aims to change the way diabetes is treated by working through its Partnership Network to increase awareness via media campaigns, create tools for community interventions, and promote health systems change for better diabetes management and prevention. It is through this commitment that the NDEP focuses on working with national and regional organizations that demonstrate the ability to reach populations disproportionately affected by diabetes. These organizations are critical partners of the NDEP, and it is through them and other partners that partnerships are formed to extend the reach of NDEP and its impact on reducing the burden of diabetes among racial and ethnic minority populations.

I. Funding Opportunity Description

Authority: This program is authorized under Sections 301(a) and 317(k)(2) of the Public Health Service (PHS) Act, [42 U.S.C. 241(a) and 247b(k)(2)] as amended. Applicable program regulations are found in 45 CFR part 74.

Purpose

The purpose of this program announcement is to support the National Diabetes Education Program (NDEP) activities that strengthen the capacity of national and regional organizations to reduce the disproportionate burden of diabetes among high-risk populations (e.g., American Indians/Alaskan Natives, blacks or African Americans, Hispanics or Latinos, Asian Americans, Native Hawaiians and other Pacific Islanders). This announcement is consistent with CDC's Government Performance and Results Act (GPRA) performance plan. This program addresses the “Healthy People 2010” focus areas of Diabetes, Heart Disease and Stroke, Nutrition and Overweight, Physical Activity and Fitness http://www.healthypeople.gov. Online information describing Healthy People 2010 as well as other requirements can be found in section VI.2. Administrative and National Policy Requirements of this document.

Measurable outcomes of the program will be in alignment with the following performance goal for the National Center for Chronic Disease Prevention and Health Promotion (NCCDPHP) that relates to the NDEP: Increase the capacity of national and regional organizations to address the prevention of diabetes for those at risk and prevention of complications and premature mortality among people with diabetes through awareness and education efforts, including identification and dissemination of lifestyle interventions proven to be effective in preventing or delaying type 2 diabetes.

Activities

Recipient activities for this program are as follows:

A. Implement strategies for promoting diabetes awareness and delivering diabetes education messages, interventions and products to targeted populations using a variety of culturally effective community-based approaches that increase and improve health care utilization within communities. This should include but is not limited to presentations at CDC conferences/meetings and having CDC present at the recipient's conferences/meetings.

B. Establish coalitions and partnerships with community-based organizations (CBOs), State and local health departments, other national and regional organizations and other appropriate organizations. Partner with and engage State diabetes prevention and control programs (DPCPs) to expand programs that capitalize on current diabetes education efforts. Actively bring together members to identify community needs, barriers to care and resources using community mobilization models such as Diabetes Today and Racial and Ethnic Approaches to Community Health (REACH). More information on these programs can be found at http://www.cdc.gov/diabetes/projects/index.htm.

C. Develop program activities that are consistent with those proven to be effective for diabetes education within community settings such as Diabetes Today. Include the development of action plans and identify activities to engage affiliates, chapters and community-based organization (CBO) partners. More information on Diabetes Today can be found at http://www.diabetestodayntc.org/program_info.htm.

D. Identify and address the capacity-building needs of your program with the goal of long-term sustainability of activities.

E. Attend and participate in CDC sponsored training and meetings and serve as an active participant on NDEP Workgroups. See section VIII. A. Other Information for a description of NDEP Workgroup member roles and responsibilities.

F. Develop and implement community-based intervention strategies which include lifestyle interventions to prevent or delay diabetes that can be designed to improve the knowledge, attitude, skills and behaviors related to the prevention, early detection and control of diabetes complications. These intervention strategies can include new and creative approaches that are coordinated with NDEP Workgroups, supportive of the NDEP Strategic Plan, workgroup goals and objectives. The materials and messages should be linguistically and culturally appropriate.

G. Describe the activities that will be conducted to ensure that proposed activities with partners will work synergistically with existing effective diabetes intervention and strategies.

H. Promote and disseminate NDEP and local diabetes health care resources and educational materials, translate and/or tailor materials into specific languages and utilize existing diabetes awareness messages, interventions, products and strategies that are culturally and linguistically appropriate for the targeted population based on current science.

I. Develop strategies that strengthen relationships with health care providers and assist them in providing culturally and linguistically appropriate diabetes education and support to diverse racial and ethnic minority populations. This may include the production of materials providing current scientific information regarding diabetes (if these materials do not already exist), other chronic diseases linked to diabetes such as cardiovascular disease (heart disease and stroke), high blood pressure and high cholesterol. Provide up-to-date, comprehensive diabetes resource guides, as well as general information on the populations served (i.e., customs, norms and languages spoken). Development of new materials should be coordinated with NDEP Workgroups so that the materials have maximal reach as joint products with NDEP. Any new materials developed should be supportive of the NDEP Strategic Plan, workgroup goals and objectives.

J. Develop a well-designed evaluation plan to monitor the progress and to evaluate the impact of activities and strategies and to measure the accomplishments of the applicant and funded partner CBOs. The evaluation plan should include (but need not be limited to) the following:

1. Identify existing data sources that can be used to establish baseline and evaluate the impact of interventions, possibly including Behavioral Risk Factor Surveillance System (BRFSS) data; hospital discharge data; medical care practice data; vital statistics data; Women, Infants, and Children (WIC) data; community health center data; Medicaid and Medicare data; and other sources of information about community health status, needs, and resources relevant to the NDEP Strategic Plan.

2. Participate in the evaluation of NDEP. The cooperative agreement recipients will be involved in gathering and submitting information on process and impact measures surrounding NDEP initiatives. Recipients will also contribute to other evaluation activities that may include development of tools to assess individual workgroup products and share success stories to support evaluation capacity building within NDEP.

3. Evidence-Based Decisionmaking. Recipients are expected to use all the information above to design and modify program objectives and intervention strategies; participate in pilot testing and implement and evaluate revised materials and interventions created in conjunction with NDEP Workgroups; revise budgets and work plans as needed; and recruit new members to the NDEP Partnership Network.

K. Disseminate pertinent program information to appropriate partner organizations and other agencies at the national, regional, State and local levels.

1. Identify and share promising practices and results including successful strategies for building community engagement, mobilization, ownership, and organization with other NDEP partner organizations in an effort to sustain the program in lieu of NDEP funding.

2. Ensure effective, timely communication and exchange of information, experiences, and results through the use of the Internet (e.g., the NDEP Web Board and http://www.cdc.gov/diabetes/ndep); documentation in the CDC Management Information System (MIS), see section M; presentations at regional and national meetings on activities including NDEP promotion; workshops relevant to NDEP objectives; and other activities.

L. Respond to public inquiries regarding program activities as appropriate.

M. Management Information System (MIS): The MIS will be used to assist in the post award administration, technical assistance and programmatic decisionmaking processes. Programs will be expected to ensure that information is entered into the MIS in a timely manner. Note: Currently, NDEP funded organizations are not using this system; however, a MIS specifically designed for programs funded under this announcement may be implemented before the end of the project period and recipients will be expected to participate. Training will be provided as needed.

N. Demonstrate quality activities linked to two or more of the CDC Division of Diabetes Translation's (DDT) National Objectives (see section VIII. B. Other Information). Recipients should document these activities in the program activities section of their application.

In a cooperative agreement, CDC staff is substantially involved in the program activities, above and beyond routine grant monitoring.

CDC Activities for this program are as follows:

A. Ensure that successful prevention interventions, program models and lessons learned are shared between grantees and others through meetings, workshops, conferences, newsletters, Internet and other avenues of communication.

B. Provide periodic updates of national activities related to the prevention and control of diabetes in targeted populations. Provide linkage to communities funded through other mechanisms (e.g., communities funded by the Steps to a Healthier US Initiative http://www.healthierus.gov/steps/, community health centers involved in the Diabetes Collaborative http://www.healthdisparities.net/) to facilitate on-going evaluation in a collaborative process.

C. Assist in identifying and developing culturally and linguistically appropriate diabetes educational materials for community based programs that reach the targeted populations.

D. Provide programmatic consultation and guidance related to the development, implementation, and evaluation and monitoring of proposed program activities. This includes access to an Evaluation Tool Kit (ETK) developed by CDC DDT personnel to assist in evaluation strategies and identify sources of data for decisionmaking.

E. Provide technical assistance relative to the coordination of activities between recipients and other national and community programs including State and local health departments to facilitate effective communication and integration between state DPCPs and national and regional organizations.

F. Provide support in the maintenance of an information system for funded organizations to input information for the purpose of planning and sharing. This includes initial training in the use of the MIS and ongoing training updates as needed for new staff or when additional features are installed.

II. Award Information

Type of Award: Cooperative Agreement. CDC involvement in this program is listed in the “Activities” section above.

Fiscal Year Funds: 2005.

Approximate Total Funding: $3,000,000.

Approximate Number of Awards: Six to eight.

Approximate Average Award: $375,000 (This amount is for the first 12-month budget period, and includes both direct and indirect costs).

Floor of Award Range: $250,000.

Ceiling of Award Range: $550,000.

Anticipated Award Date: February 27, 2005.

Budget Period Length: 12 months.

Project Period Length: Up to five years. Throughout the project period, CDC's commitment to continuation of awards will be conditioned on the availability of funds, evidence of satisfactory progress by the recipient (as documented in required reports), and the determination that continued funding is in the best interest of the Federal government.

III. Eligibility Information

III.1. Eligible Applicants

• Applications may only be submitted by national, regional, State, multi-State, and faith based organizations and institutions that are private health, education or social service organizations (professional or voluntary); qualify as a non-profit 501(c)(3) entity; have affiliate offices or chapters at the local, State and/or regional level in five or more geographically distinct communities serving a high concentration of the targeted population and have the capacity and experience to assist their affiliate offices and chapters. Geographically distinct communities must be located in different areas. Applicants should consider available resources when determining the population size and the number of geographically distinct communities to include in their proposal. Affiliate and chapter offices may not apply in lieu of or on behalf of their parent national office. However, this does not exclude affiliates from assisting with the development of the application.

III.2. Cost Sharing or Matching

Matching funds are not required for this program.

III.3. Other

If you request a funding amount greater than the ceiling of the award range, your application will be considered non-responsive, and will not be entered into the review process. You will be notified that your application did not meet the submission requirements.

If your application is incomplete or non-responsive to the requirements listed in section IV. Application and Submission Information, it will not be entered into the review process. You will be notified that your application did not meet submission requirements.

Note: Title 2 of the United States Code section 1611 states that an organization described in section 501(c)(4) of the Internal Revenue Code that engages in lobbying activities is not eligible to receive Federal funds constituting an award, grant, or loan.

IV. Application and Submission Information

IV.1. Address to Request Application Package

To apply for this funding opportunity, use application form PHS 5161. Application forms and instructions are available on the CDC Web site, at the following Internet address: http://www.cdc.gov/od/pgo/forminfo.htm. If you do not have access to the Internet, or if you have difficulty accessing the forms on-line, you may contact the CDC Procurement and Grants Office Technical Information Management Section (PGO-TIM) staff at (770) 488-2700. Application forms can be mailed to you.

IV.2. Content and Form of Submission

Letter of Intent (LOI): Your LOI must be written in the following format:

• Maximum number of pages: One.

• Font size: 12-point unreduced.

• Double spaced.

• Paper size: 8.5 by 11 inches.

• Page margin size: One inch.

• Printed only on one side of page.

• Written in plain language, avoid jargon.

Your LOI must contain the following information:

• Your organization name, address, executive director and contact information.

• A description of the population your organization plans to target.

• A statement of your intent to apply.

• Indicate whether your agency is a national or regional organization.

• Your application should not accompany your LOI.

Application: You must submit a project narrative with your application forms. The narrative must be submitted in the following format:

• Maximum number of pages: 35.

Note: If your narrative exceeds the page limit, only the first 35 pages will be reviewed.

• Font size: 12 point unreduced.

• Doubled spaced.

• Paper size: 8.5 by 11 inches.

• Page margin size: One inch.

• Printed only on one side of page.

• Held together only by rubber bands or metal clips; not bound in any other way.

Your narrative should address activities to be conducted over the entire project period, and must include the following items in the order listed:

• Justification of Need—Describe the problem(s) being addressed by the proposed activities. Describe the need for the proposed activities in the geographical area(s) within which the activities will be implemented. Who is your proposed target population? Describe the characteristics of the targeted population relative to their racial and ethnic diversity and knowledge, attitudes, beliefs and health practices relative to diabetes.

• Organization Capacity—The purpose of this section is to assess your organization's ability to effectively sustain your proposed program. Describe the organization's mission, structure and function to include:

1. Describe past experience serving racial and ethnic minority populations through its offices, affiliates, chapters or participating organizations at the national/regional level for at least 12 months prior to submission of the application. Please include outcomes or expected outcomes if the project/intervention is ongoing.

2. Number of affiliate or chapter organizations, location of affiliate or chapter organizations, and how affiliates or chapters work with the national and/or regional organization decisions makers, methods of routine communication with affiliates or chapters and description of how the infrastructure will be used to support successful implementation of the proposed program activities.

3. Describe the organization's past and present abilities to work with affiliates, chapters, CBOs and other governmental and non-governmental organizations including other national or local diabetes related agencies, State diabetes prevention and control programs (DPCPs) and local health departments. Explain how existing effective diabetes messages, interventions and products will be incorporated and how the proposed activities will expand rather than duplicate present activities.

4. Include the nature and extent of affiliates, chapters, etc. support for past and present activities relative to awareness and/or educational activities or describe how affiliates, chapters, etc. support will be obtained for the proposed program activities.

5. Provide a copy of a letter of commitment from the organization's board president or appropriate designee acknowledging their support of the applicant's activities and organization. The letter should address the organization's support and commitment to develop a plan and policy that will be adopted by affiliates, chapter membership organizations and CBO partners. If a diabetes control policy and plan currently exists within the organization's office, it should be submitted in lieu of a letter of commitment.

• Objectives

Objectives are tangible statements that describe the activities the program is attempting to achieve. Objectives should be written in a manner to be evaluated at the conclusion of a project to determine if they were achieved. Relative to objectives the applicant should:

1. Describe the five year (long term) specific, measurable, achievable, relevant, time-phased objectives for the program consistent with the purpose of this program announcement.

2. Describe specific, measurable, achievable, relevant, time-phased objectives for each budget year (short term).

• Program Activities

1. Describe how the affiliates, chapters or CBOs will be involved in the implementation of the proposed program activities.

2. Describe the specific activities that will be undertaken to achieve each of the program's objectives during the first year consistent with the recipient activities.

3. Briefly describe the activities planned for budget years two through five. Include the linkages to the Division of Diabetes Translation (DDT) National Objectives.

• Project Management

1. Submit a work plan that outlines the main implementation steps and activities to be completed by recipient and affiliates, chapters, or partner CBOs by specified targeted dates to achieve the objectives for the budget year. Identify the name(s) or position(s) responsible for carrying out the activities.

2. Describe each proposed position for this program that will support this work plan by job title, function, general duties and the responsibilities of the position.

3. Describe the qualifications for the project coordinator position in terms of education, experience and desired skills.

4. Include the level of effort and allocation of time for each project activity by staff position.

Minimal staffing should include a full-time project coordinator and one program assistant.

• Program Evaluation Plan

This section should be described in terms of how the recipient will engage in the six-step CDC Framework for Evaluation: engage stakeholders, describe the program, spotlight the evaluation design, gather credible evidence, justify conclusions and ensure use and share lessons learned. More information on this evaluation framework can be found at: http://www.cdc.gov/eval/steps.htm. Additionally, recipients will be responsible for working with appropriate NDEP Workgroup(s) to develop evaluation plans designed to measure process and impact measures for implementation of NDEP.

1. Identify methods for attaining measurable, time phased short and long term objectives. Identify methods for accomplishing program activities and monitoring program quality. The evaluation plan should include qualitative and quantitative data collection and assessment methods. As appropriate, this plan should include baseline data for the proposed objectives or the methods that will be used to establish the baseline data; the minimum data to be collected to evaluate the achievement of proposed program objectives; and the systems for collecting and analyzing the data. Data to be reported will be dependent on the proposed program objectives and activities; however, examples of potential data include, but are not limited to the following:

a. The number of individuals expected to be reached in the targeted population and the plan for evaluating the number actually reached.

b. Information about the national, regional, state and local health organizations, providers reached and populations served.

c. Number and types of community activities implemented (when, where, and how activities are conducted).

d. Information on the change in knowledge, attitudes and self-management and/or care utilization practices among people with diabetes.

e. Information on the number of affiliates, chapters, organizations, coalitions and partnerships that are participating in program activities and how activities complement national education efforts.

• Budget and Narrative Justification

1. Provide a detailed line-item budget and justification for all operating expenses consistent with the proposed objectives and activities. Provide precise information regarding the purpose of each budget item and provide itemized calculations when appropriate.

2. Applicants should budget for the following cost: Out-of-state travel, participation in CDC sponsored trainings, workshops and meetings. Travel funds should be budgeted for:

a. Two persons to attend the CDC Diabetes Translation Conference held during the spring (4 days).

b. At least one person to attend one NDEP Minority Workgroup face-to-face meeting (2 days).

c. At least one person to attend NDEP Steering Committee meetings (twice a year: 1-2 days).

d. At least one person to attend the Division of Diabetes Translation Annual Program Director's meeting. (3 days).

e. Two persons to attend the first year program orientation meeting, preferably attended by the program coordinator and evaluation lead (2 days).

f. Organizations are also encouraged to attend and participate in non-conference training such as Diabetes Today and the Diabetes Collaborative which is relevant to the goals and objectives of NDEP.

3. Local travel as necessary to meet program objectives and activities.

• Additional information may be included in the application appendices. The appendices will not be counted toward the narrative page limit. This additional information includes curriculum vitaes, resumes, organizational charts, letters of support, etc. Please include the following information as appendices:

1. Provide an organization chart and one page resume of each current staff member who will work on this project. Include a one-page job description of proposed staff. This must include the identification of a lead person for creating and implementing evaluation or a description with timeline of plans to hire or contract an individual to function as an evaluation lead.

2. A list of applicant's affiliates/chapters by regional, state and local organizations or a description of each CBO partner.

3. Evidence of collaboration with other organizations that serve the same targeted populations. Include Memoranda of Agreement and letters of support.

4. A description of funding from other sources to conduct similar activities.

a. Describe how funds requested under this announcement will be used differently or in ways that will expand on the funds already received, applied for or being received.

b. Identify proposed personnel devoted to this project who are supported by other funding sources and the activities they support.

c. Written statement that the funds being requested will not duplicate or supplant funds received from any other sources.

5. Proof of eligibility (see section III. Eligible Applicants).

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: October 14, 2004.

CDC requests that you send a LOI if you intend to apply for this program. Although the LOI is not required, not binding, and does not enter into the review of your subsequent application, the LOI will be used to gauge the level of interest in this program, and to allow CDC to plan the application review.

Application Deadline Date: November 18, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at (770) 488-2700. Before calling, please wait two to three days after the application deadline. This will allow time for applications to be processed and logged.

IV.4. Intergovernmental Review of Applications

Executive Order 12372 does not apply to this program.

IV.5. Funding restrictions

Restrictions, which must be taken into account while writing your budget, are as follows:

• Funding may not be expended for the purchase or lease of land or buildings, construction of facilities, renovation of existing space, or the delivery of clinical and therapeutic services. The purchase of equipment is discouraged but will be considered for approval if justified on the basis of being essential to the program and not available from any other source.

If you are requesting indirect costs in your budget, you must include a copy of your indirect cost rate agreement. If your indirect cost rate is a provisional rate, the agreement should be less than 12 months of age.

Awards will not allow reimbursement of pre-award costs. Guidance for completing your budget can be found on the CDC Web site, at the following Internet address: http://www.cdc.gov/od/pgo/funding/budgetguide.htm.

IV.6. Other Submission Requirements

LOI Submission Address: Submit your LOI by express mail, delivery service, fax, or e-mail to: Shirl Ellis, Public Health Advisor, CDC, National Center for Chronic Disease Prevention and Health Promotion, Division of Diabetes Translation, National Diabetes Education Program, 4770 Buford Highway, NE., MS K-10, Atlanta, GA 30341, telephone: (770) 488-5035, fax: (770) 488-5195, e-mail: sfe9@cdc.gov.

Application Submission Address: Submit the original and two hard copies of your application by mail or express delivery service to: Technical Information Management-RFA 05014, CDC Procurement and Grants Office, 2920 Brandywine Road, Atlanta, GA 30341, telephone: (770) 488-2700.

Applications may not be submitted electronically by e-mail or faxed at this time.

V. Application Review Information

V.1. Criteria (100 Points)

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

A. Capacity (20 Points)

Extent to which the applicant describes:

1. The capacity of the applicant's infrastructure to support successful implementation of the proposed program activities in high risk populations.

2. Applicant's relationship with target population; a primary or direct relationship is preferred. Secondary relationships that are limited to fundraising or philanthropy have less preference.

3. The success of the applicant's past and present experiences in working with the high risk populations, conducting awareness and/or other educational activities, collaborating with public and private sector partners and the potential contribution of these experiences to the success of the proposed program activities.

4. The success of the applicant in generating affiliate or chapter support for past and present organizational activities and the likelihood that strong support can be secured for the proposed program activities.

5. The reach of affiliates and chapters, national and regional organizations and number of states or jurisdictions covered.

B. Program Activities (20 Points)

Extent to which proposed activities are appropriate for the targeted population, achievable and that implementation will lead to accomplishment of the proposed objectives within the project period.

C. Project Management (20 Points)

1. Extent to which the work plan outlined is adequate to implement the program within the time lines described by the positions and and individuals identified.

2. Extent to which the proposed personnel time allocation is sufficient to accomplish the program activities.

D. Objectives (15 Points)

Extent to which the proposed objectives are specific, measurable, achievable, appropriate and relevant for the targeted audience and consistent with the stated purpose of this program announcement. The objectives must also be time related.

E. Program Evaluation Plan (15 Points)

Extent to which the applicant describes an evaluation plan for monitoring the program's progress, quality, accomplishments relative to achieving the objectives and completing the proposed program activities within the project period.

F. Justification of Need (10 Points)

Extent to which the applicant demonstrates an understanding of the program's purpose, objectives, describes the target population characteristics, diabetes burden, needs of the targeted population and justify the need for the proposed activities.

G. Budget and Justification (Not Weighted)

Extent to which the budget is reasonable and consistent with the purpose of the program announcement and proposed objectives and activities.

V.2. Review and Selection Process

Applications will be reviewed for completeness by the Procurement and Grants Office (PGO) staff, and for responsiveness by the National Center for Chronic Disease Prevention and Health Promotion. Incomplete applications and applications that are non-responsive to the eligibility criteria will not advance through the review process. Applicants will be notified that their application did not meet submission requirements.

An objective review panel will evaluate complete and responsive applications according to the criteria listed in the “V.1. Criteria” section above.

In addition, the following factors may affect the funding decision: Preference for funding will be given to ensure that:

• Funded organizations are balanced in terms of the racial/ethnic minority groups they target. The number of funded national and regional organizations serving each racial/ethnic minority group may be adjusted based on the burden of diabetes in that target group as measured by U.S. Department of Health and Human Services (HHS)reporting sources.

• Funded national and regional organizations are balanced in terms of geographic distribution within the United States, including the District of Columbia and United States Territories. Consideration will be given to high prevalence areas; the number of funded organizations may be adjusted based on the burden of diabetes in the jurisdiction as measured by HHS reporting sources.

V.3. Anticipated Announcement and Award Dates

It is expected that the awards will begin on or about February 27, 2005, and will be made for a 12 month budget period within a project period of up to five years. Funding estimates may vary depending on availability of funds.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient's fiscal officer identified in the application.

Unsuccessful applicants will receive notification of the results of the application review by mail.

VI.2. Administrative and National Policy Requirements

45 CFR Part 74 and Part 92

For more information on the Code of Federal Regulations, see the National Archives and Records Administration at the following Internet address: http://federal.access.gpo.gov/nara/cfr/cfr-table-search.html.

The following additional requirements apply to this project:

• AR-9 Paperwork Reduction Act Requirements

• AR-10 Smoke-Free Workplace Requirements

• AR-11 Healthy People 2010

• AR-12 Lobbying Restrictions

• AR-14 Accounting System Requirements

• AR-15 Proof of Non-Profit Status

• AR-21 Small, Minority, and Women-Owned Business Additional information on these requirements can be found on the CDC Web site at the following Internet address: http://federal.cdc.gov/od/pgo/funding/ARs.htm.

VI.3. Reporting Requirements

You must provide CDC with an original, plus two hard copies of the following reports:

1. Interim progress report, no later than September 27 of each year. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report and annual progress report no more than 90 days after the end of the budget period.

3. Final financial and performance reports, no more than 90 days after the end of the project period.

These reports must be mailed to the Grants Management Specialist listed in the “Agency Contacts” section of this announcement.

VII. Agency Contacts

For general questions about this announcement, contact: Technical Information Management Section, CDC Procurement and Grants Office, 2920 Brandywine Road, Atlanta, GA 30341, telephone: (770) 488-2700.

For program technical assistance, contact: Shirl Ellis, Project Officer, CDC, National Center for Chronic Disease Prevention and Health Promotion, Division of Diabetes Translation, National Diabetes Education Program, 4770 Buford Highway, NE., MS K-10, Atlanta, GA 30341, telephone: (770) 448-5035, e-mail: sfe9@cdc.gov.

For financial, grants management, or budget assistance, contact: Tiffney Esslinger, Grants Management Specialist, CDC Procurement and Grants Office, 2920 Brandywine Road, Atlanta, GA 30341, telephone: (770) 488-2686, e-mail: tesslinger@cdc.gov.

VIII. Other Information

VIII.A. NDEP Workgroup Member Position Description and Requirements

Workgroup members serve as advisors/consultants for the development of NDEP materials, and implement strategic intervention activities for the NDEP program through their NDEP partner organizations. In addition, workgroup members serve as conduits for promoting the NDEP messages and the principles of NDEP. Workgroup members participate on conference calls, face-to-face meetings and the annual Partnership Network conference.

Workgroup membership roles and responsibilities include a commitment to do the following:

• Represent an organization invited to participate as an NDEP partner.

• Notify the workgroup chair if the workgroup member no longer represents the NDEP partner organization or if the organization selects another representative.

• Communicate with the organization which the member represents about NDEP campaigns and activities.

• Communicate with NDEP about members' organizational activities in support of the NDEP goals and objectives.

• Participate in workgroup conference calls. In most workgroups this represents a commitment of one hour monthly.

• Participate in face-to-face meetings, which usually will include one workgroup meeting and one Partnership Network meeting annually. It is not acceptable to invite a substitute to participate on a call or at a meeting if the NDEP member is not available.

• Facilitate partnerships that promote NDEP activities.

• Serve as a spokesperson for NDEP.

• Encourage networking in professional associations and organizations to promote NDEP.

• Assist with language translation or review of translated materials (if needed and applicable).

• Provide feedback and input for materials development.

• Contribute to NDEP's overall evaluation effort by reporting back to NDEP staff about activities promoting, disseminating or implementing NDEP campaigns and interventions.

VIII.B. CDC Division of Diabetes Translation National Objectives

1. By 2008, demonstrate success in achieving an increase in the percentage of people with diabetes in your jurisdiction who receives the recommended foot exams.

2. By 2008, demonstrate success in achieving an increase in the percentage of people with diabetes in your jurisdiction who receives the recommended eye exams.

3. By 2008, demonstrate success in achieving an increase in the percentage of people with diabetes in your jurisdiction who receive the recommended vaccinations (influenza and pneumococcal).

4. By 2008, demonstrate success in achieving an increase in the percentage of people with diabetes in your jurisdiction who receives the recommended A1C tests.

5. By 2008, demonstrate success in reducing health disparities for high-risk populations with respect to diabetes prevention and control.

6. By 2008, demonstrate success in linking to programs for promotion of wellness and physical activity, weight and blood pressure control and smoking cessation for people with diabetes.

To find out more about the National Diabetes Education Program (NDEP), visit the following Web sites at: http://www.ndep.nih.gov, http://www.cdc.gov/diabetes/ndep, http://www.betterdiabetescare.nih.gov, http://www.diabetesatwork.org.

To find out more about the CDC Division of Diabetes Translation, visit the Web site at: http://www.cdc.gov/diabetes.

Dated: September 28, 2004.
William P. Nichols,
Acting Director, Procurement and Grants Office, Centers for Disease Control and Prevention.

[FR Doc. 04-22259 Filed 10-1-04; 8:45 am]

BILLING CODE 4163-18-P